DEPARTMENT OF THE TREASURY

Customs Service

[T.D. 01-77]

Cancellation of Customs Broker License

AGENCY: Customs Service, Department of the Treasury.

ACTION: Customs broker license cancellation.

SUMMARY: Pursuant to section 641 of the Tariff Act of 1930, as amended, (19 U.S.C. 1641) and the Customs Regulations (19 CFR 111.51), the following Customs broker license is canceled without prejudice.

Name | License # | Port name
F.X. Coughlin Company | 4382 | Detroit

Dated: October 17, 2001.
Bonni G. Tischler,
Assistant Commissioner, Office of Field Operations.

[FR Doc. 01-26521 Filed 10-19-01; 8:45 am]

BILLING CODE 4820-02-P